DEPARTMENT OF COMMERCE

International Trade Administration

A-427-820

Stainless Steel Bar From France: Notice of Extension of Time Limit for Preliminary Results in Antidumping Duty Administrative Review

AGENCY: Import Administration, International Trade Administration, Department of Commerce.

ACTION: Notice of Extension of Time Limit for Preliminary Results in Antidumping Duty Administrative Review.

SUMMARY: The Department of Commerce (the Department) is extending the time limit for the preliminary results of the administrative review of the antidumping duty order on stainless steel bar from France, which covers the period March 1, 2003, through February 29, 2004.

EFFECTIVE DATE: November 5, 2004.

FOR FURTHER INFORMATION CONTACT: David J. Goldberger at (202) 482-4136, or Terre Keaton at (202) 482-1280, Import Administration, AD/CVD Operations, Office 2, International Trade Administration, U.S. Department of Commerce, 14th Street and Constitution Avenue, NW., Washington, DC, 20230.

SUPPLEMENTARY INFORMATION: Pursuant to section 751(a)(3)(A) of the Tariff Act of 1930, as amended (the Act), the Department shall make a preliminary determination in an administrative review of an antidumping duty order within 245 days after the last day of the anniversary month of the date of publication of the order. The Act further provides, however, that the Department may extend that 245-day period to 365 days if it determines it is not practicable to complete the review within the foregoing time period. The preliminary results are currently scheduled to be completed on December 1, 2004. However, the Department finds that it is not practicable to complete the preliminary results in this administrative review of stainless steel bar from France within this time limit because additional time is needed to fully analyze the questionnaire responses and supplemental questionnaire responses submitted by the respondent and conduct a verification of the respondent in this administrative review.

Therefore, in accordance with section 751(a)(3)(A) of the Act, the Department is extending the time limit for completion of the preliminary results of this review until March 30, 2005.

Dated: November 1, 2004.
Jeffrey A. May,
Deputy Assistant Secretary for Import Administration.

[FR Doc. E4-3032 Filed 11-4-04; 8:45 am]

BILLING CODE 3510-DS-S